DEPARTMENT OF THE INTERIOR

National Park Service

[NPS-WASO-NAGPRA-22871; PPWOCRADN0-PCU00RP14.R50000]

Notice of Intent To Repatriate Cultural Items: Denver Museum of Nature & Science, Denver, CO

AGENCY: National Park Service, Interior.

ACTION: Notice.

SUMMARY: The Denver Museum of Nature & Science, Denver, CO, in consultation with the appropriate Indian tribes or Native Hawaiian organizations, has determined that the cultural items listed in this notice meet the definition of sacred objects. Lineal descendants or representatives of any Indian tribe or Native Hawaiian organization not identified in this notice that wish to claim these cultural items should submit a written request to the Denver Museum of Nature & Science, Denver, CO. If no additional claimants come forward, transfer of control of the cultural items to the lineal descendants, Indian tribes, or Native Hawaiian organizations stated in this notice may proceed.

DATES: Lineal descendants or representatives of any Indian tribe or Native Hawaiian organization not identified in this notice that wish to claim these cultural items should submit a written request with information in support of the claim to the Denver Museum of Nature & Science, Denver, CO, at the address in this notice by April 6, 2017.

ADDRESSES: Chip Colwell, Senior Curator of Anthropology and NAGPRA Officer, Denver Museum of Nature & Science, 2001 Colorado Boulevard, Denver, CO 80205, telephone (303) 370-6378, email Chip.Colwell@dmns.org.

SUPPLEMENTARY INFORMATION: Notice is here given in accordance with the Native American Graves Protection and Repatriation Act (NAGPRA), 25 U.S.C. 3005, of the intent to repatriate cultural items under the control of the Denver Museum of Nature & Science, Denver, CO that meet the definition of sacred objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Item

At an unknown date, one cultural item was removed from an unknown location. Museum records show that the cultural item was obtained by Monrow P. Killy from Charlie Day, a tribal member at the Nett Lake Indian Reservation, also known as the Bois Forte Indian Reservation. Killy was a photographer and electrician who wrote extensively for Minnesota Archaeologist regarding the traditions of the Sioux and Ojibwe. The cultural item was subsequently purchased by a collector named Jonathan Holstein, who sold it to Mary and Francis Crane on August 9, 1978. The Cranes then donated it to the Denver Museum of Nature & Science on May 27, 1983. The one cultural item, a dream symbol (AC.11657), is a sacred object related to dreams that could be used in the Grand Medicine Society or Midewiwin, a ritual society.

Museum accession, catalogue, and documentary records, as well as consultation with a representative of the Bois Forte Band (Nett Lake) of the Minnesota Chippewa Tribe, Minnesota, indicate that the one cultural item is Ojibwe and is from the Bois Forte Indian Reservation, Minnesota.

Determinations Made by the Denver Museum of Nature & Science

Officials of the Denver Museum of Nature & Science have determined that:

• Pursuant to 25 U.S.C. 3001(3)(C), the 1 cultural item described above is a specific ceremonial object needed by traditional Native American religious leaders for the practice of traditional Native American religions by their present-day adherents.

• Pursuant to 25 U.S.C. 3001(2), there is a relationship of shared group identity that can be reasonably traced between the one cultural item and the Bois Forte Band (Nett Lake) of the Minnesota Chippewa Tribe, Minnesota.

Additional Requestors and Disposition

Lineal descendants or representatives of any Indian tribe or Native Hawaiian organization not identified in this notice that wish to claim these cultural items should submit a written request with information in support of the claim to Chip Colwell, Senior Curator of Anthropology and NAGPRA Officer, Denver Museum of Nature & Science, 2001 Colorado Boulevard, Denver, CO 80205, telephone (303) 370-6378, email Chip.Colwell@dmns.org, by April 6, 2017. After that date, if no additional claimants have come forward, transfer of control of the cultural item to the Bois Forte Band (Nett Lake) of the Minnesota Chippewa Tribe, Minnesota may proceed.

The Denver Museum of Nature & Science is responsible for notifying the Bois Forte Band (Nett Lake) of the Minnesota Chippewa Tribe, Minnesota that this notice has been published.

Dated: February 6, 2017.
Melanie O'Brien,
Manager, National NAGPRA Program.

[FR Doc. 2017-04404 Filed 3-6-17; 8:45 am]

BILLING CODE 4312-52-P